ENVIRONMENTAL PROTECTION AGENCY

[FRL-6859-1]

Agency Information Collection Activities: Submission for OMB Review; Comment Request, Information Requirements for Importation of Nonconforming Vehicles

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Information Requirements for Importation of Nonconforming Vehicles, OMB Control Number 2060-0095, expiration date 11/30/2000. The ICR describes the nature of the information collection and expected burden and cost; where appropriate, it includes the actual data collection instrument.

DATES: Comments must be submitted on or before September 27, 2000.

ADDRESSES: Send comments, referencing EPA ICR No. 0010.09 and OMB Control No. 2060-0095, to the following addresses: Sandy Farmer, U.S. Environmental Protection Agency, Collection Strategies Division (Mail Code 2822), 1200 Pennsylvania Avenue, N.W., Washington, DC 20460; and to Office of Information and Regulatory Affairs, Office of Management and Budget (OMB), Attention: Desk Officer for EPA, 725 17th Street, N.W., Washington, DC 20503.

FOR FURTHER INFORMATION CONTACT: For a copy of the ICR contact Sandy Farmer at EPA by phone at (202) 260-2740, by E-Mail at Farmer.Sandy@epamail.epa.gov or download off the Internet at http://www.epa.gov/icr and refer to EPA ICR No. 0010.09. For technical questions about the ICR contact Leonard Lazarus at 202-564-9281.

SUPPLEMENTARY INFORMATION: Title: Information Requirements for Importation of Nonconforming Vehicles, OMB Control Number 2060-0095, EPA ICR Number 0010.09 expiration date 11/30/2000; This is a request for extension of a currently approved collection.

Abstract: Individuals and businesses importing on and off-road motor vehicles or motor vehicle engines report and keep records of vehicle importations, request prior approval for vehicle importations, or request final admission for vehicles conditionally imported into the U.S. The collection of this information is mandatory in order to ensure compliance of nonconforming vehicles with Federal emissions requirements. Joint EPA and Customs regulations at 40 CFR 85.1501 et seq., and 19 CFR 12.73 and 12.74 promulgated under the authority of Clean Air Act Sections 203 and 208 give authority for the collection of information. The information is used by program personnel to ensure that all Federal emission requirements concerning imported nonconforming motor vehicles are met. Any information submitted to the Agency for which a claim of confidentiality is made is safeguarded according to policies set forth in Title 40, Chapter 1, part 2, subpart B—Confidentiality of Business Information (see CFR part 2), and the public is not permitted access to information containing personal or organizational identifiers. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on 5/1/00 (65 FR 25324); no comments were received.

Burden Statement: The annual public reporting and recordkeeping burden for this collection of information is estimated to average 0.7 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected entities: Individuals and businesses importing motor vehicles and motor vehicle engines.

Estimated Number of Respondents: 13,000.

Frequency of Response: 1.6 responses/year.

Estimated Total Annual Hour Burden: 14,400.

Estimated Total Annualized Capital, O&M Cost Burden: $1,296,000.

Send comments on the Agency's need for this information, the accuracy of the provided burden estimates, and any suggested methods for minimizing respondent burden, including through the use of automated collection techniques to the following addresses. Please refer to EPA ICR No. 0010.09 and OMB Control No. 2060-0095 in any correspondence.

Dated: August 21, 2000.
Oscar Morales,
Director, Collection Strategies Division.

[FR Doc. 00-21918 Filed 8-25-00; 8:45 am]

BILLING CODE 6560-50-P